DEPARTMENT OF TRANSPORTATION

Coast Guard

33 CFR Part 117

[CGD01-02-035]

Drawbridge Operation Regulations: Taunton River, MA

AGENCY: Coast Guard, DOT.

ACTION: Notice of temporary deviation from regulations.

SUMMARY: The Commander, First Coast Guard District, has issued a temporary deviation from the drawbridge operation regulations for the Brightman Street Bridge, mile 1.8, across the Taunton River between Somerset and Fall River, Massachusetts. This deviation from the regulations, effective from 9 p.m. on April 5, 2002 through 4 p.m. on April 19, 2002, allows the bridge to remain in the closed position for vessel traffic to facilitate scheduled maintenance at the bridge.

DATES: This deviation is effective from April 5, 2002 through April 19, 2002.

FOR FURTHER INFORMATION CONTACT: John W. McDonald, Project Officer, First Coast Guard District, at (617) 223-8364.

SUPPLEMENTARY INFORMATION: The bridge owner, Massachusetts Highway Department, requested a temporary deviation from the drawbridge operating regulations to facilitate necessary structural repairs at the bridge, replacement of the main floor beam, at the bridge.

This deviation to the operating regulations, effective from 9 p.m. on April 5, 2002 through 4 p.m. on April 19, 2002, allows the Brightman Street Bridge to remain in the closed position for vessel traffic. There have been few requests to open this bridge during the requested time period scheduled for these structural repairs in past years. The Coast Guard and the bridge owner coordinated this closure with the facilities upstream from the bridge and no objections to this scheduled closure were received.

This deviation from the operating regulations is authorized under 33 CFR 117.35, and will be performed with all due speed in order to return the bridge to normal operation as soon as possible.

Dated: March 19, 2002.
G.N. Naccara,
Rear Admiral, U.S. Coast Guard, Commander, First Coast Guard District.

[FR Doc. 02-7357 Filed 3-26-02; 8:45 am]

BILLING CODE 4910-15-P